DEPARTMENT OF LABOR

Office of the Secretary

Women's Bureau; Women in Apprenticeship and Nontraditional Occupations (WANTO) Act of 1992 FY-2003 Budget, Training and Employment Services (TES) 1630174

AGENCY: Women's Bureau, Department of Labor.

ACTION: Notice of Availability of Funds and Solicitation For Grant Applications (SGA 03-12).

This notice contains all of the information needed to apply for grant funding. Grant proposals that are not completed as directed will be judged non-responsive and will not be evaluated.

SUMMARY: The Women's Bureau, U.S. Department of Labor (DOL), announces the 2003 Solicitation for Grant Applications (SGA) authorized under the Women in Apprenticeship and Nontraditional Occupations (WANTO) Act of 1992. The purpose of this program is to assist employers and labor unions in the placement and retention of women in apprenticeship and nontraditional occupations. To that end, WANTO grant funds are disbursed to eligible community-based organizations, which may be faith-based, which, in turn, provide employers and labor unions with technical assistance geared towards the successful placement and retention of women in apprenticeship and nontraditional occupations.

DATES: One signed original, complete grant application plus two copies of the Technical Proposal and two copies of the Cost Proposal must be submitted. The original and copies must be submitted by 4:45 p.m. e.s.t., August 11, 2003. Hand-delivered applications must be received by that time. An application received after August 11, 2003, will not be considered unless it is received before awards are made and:

1. It was sent by registered or certified mail not later than August 6, 2003.

2. It is determined by the government that the late receipt was due solely to mishandling by the government after receipt at the U.S. Department of Labor at the address listed under ADDRESSES; or

3. It was sent by U.S. Postal Service Express Mail Next Day Service—Post Office to Addressee, not later than 4:45 p.m. e.s.t. on August 9, 2003.

The only acceptable evidence to establish the date of mailing of a late application sent by registered or certified mail is the U.S. Postal Service postmark on the envelope or wrapper and on the original receipt from the U.S. Postal Service. If the postmark is not legible, an application received after the specified time and date will be processed as if mailed late. “Postmark” means a printed, stamped, or otherwise placed impression (not a postage meter machine impression) that is readily identifiable without further action as having been applied and affixed by an employee of the U.S. Postal Service on the date of mailing. Therefore, applicants shall request that the postal clerk place a legible hand cancellation bull's-eye postmark on both the receipt and the wrapper or envelope.

The only acceptable evidence to establish the date of mailing of a late application sent by U.S. Postal Service Mail Next Day Service—Post Office to Addressee is the date entered by the post office receiving clerk on the “Express Mail Next Day Service-Post Office to Addressee” label and the postmark on the envelope or wrapper and on the original receipt from the U.S. Postal Service. “Postmark” has the same meaning as defined in the preceding paragraph. Therefore, applicants shall request that the postal clerk place a legible hand cancellation bull's-eye postmark on both the receipt and the envelope or wrapper.

The only acceptable evidence to establish the time of receipt at the U.S. Department of Labor is the date/time stamp of the Office of Procurement Services on the application wrapper or other documentary evidence of receipt maintained by that office. Applications sent by other delivery services, such as Federal Express, UPS, etc., will also be accepted; however, the applicant bears the responsibility of timely submission.

ADDRESSES: Applications must be directed to the U.S. Department of Labor, Procurement Services Center, Attention: Cassandra Willis, Reference SGA 03-12, Room N-5416, 200 Constitution Avenue, NW., Washington, DC 20210.

FOR FURTHER INFORMATION CONTACT: All applicants are advised that U.S. mail delivery in the Washington, DC area has been erratic due to concerns involving anthrax contamination. All applicants must take this into consideration when preparing to meet the application deadline. You assume the risk for ensuring a timely submission; that is, if, because of these mail problems, the Department does not receive an application or receives it too late to give it proper consideration, even if it was timely mailed, the Department is not required to consider the application. Therefore, it is recommended that you confirm receipt of your application by contacting Cassandra Willis, U.S. Department of Labor, Procurement Services Center; (202) 693-4570 (this is not a toll-free number), prior to the closing deadline.

Application announcements or forms will not be mailed. The Federal Register may be obtained from your nearest government office or library. In addition, a copy of this notice and the application requirements may be downloaded from the Women's Bureau's Web site at http://www.dol.gov/wb/nontra.htm.

All questions about this SGA should be directed to Cassandra Willis, U.S. Department of Labor, Procurement Services Center, Room N-5416, 200 Constitution Avenue, NW., Washington, DC 20210; 202-693-4570.

SUPPLEMENTARY INFORMATION:

Part I. Background

A. Authority and Funding. The Women in Apprenticeship and Nontraditional Occupations (WANTO) Act of 1992 (29 U.S.C. 2501 et seq.) authorizes the Department of Labor (DOL) to disburse technical assistance grants. The WANTO grants for Fiscal Year (FY) 2003 are funded by DOL FY 2003 Budget: Training and Employment Services (TES) 1630174. The Women's Bureau (WB) co-administers the WANTO program with the DOL Office of Apprenticeship Training, Employer and Labor Services (ATELS). WB has responsibility for implementing the grant process.

B. Purpose. The WANTO Act's purpose is to provide technical assistance to employers and labor unions (E/LU) to encourage employment of women in apprenticeships and nontraditional occupations (A/NTO). WANTO grants are awarded to community-based organizations (CBOs), which may be faith-based, to deliver technical assistance to E/LU to prepare them to successfully recruit, train, employ and retain women in A/NTO. DOL has found that placement and retention of women in A/NTO pose significant challenges.

C. Grant Awards. The WB is soliciting proposals on a competitive basis for the WANTO program. The WB anticipates awarding grants of $50,000 to $100,000 to approximately 10 grantees to conduct innovative projects that comply with the goals set forth in the WANTO Act and this SGA. The period of performance begins September 30, 2003, and ends on September 29, 2004. The initial performance period may be extended once, for up to three months, at no additional cost to DOL, so that a grantee can finish its final report. Each application shall clearly state the applicant's intention to begin performance no later than October 1, 2003.

D. Acronyms and Definitions. The following terms are defined for the convenience of prospective applicants:

WANTO refers to Women in Apprenticeship and Nontraditional Occupations.

A/NTO refers to apprenticeship and nontraditional occupations.

E/LU refers to employers and labor unions.

ATELS refers to the Apprenticeship Training, Employer and Labor Services office of the Employment and Training Administration, U.S. Department of Labor.

WB refers to the Women's Bureau, U.S. Department of Labor.

TA refers to technical assistance.

NTO (Nontraditional Occupations) are those where women account for less than 25 percent of all persons employed in a single occupational group. For the most recent listing of nontraditional jobs, see the WB Web site at www.dol.gov/wb/stats/main.htm.

Pre-Apprenticeship Programs are those programs that prepare individuals for apprenticeship or entry-level employment in NTO. Depending on the apprenticeable or other nontraditional occupation for which the program is preparing students, the curriculum would vary. For example, a curriculum for the construction trades may include pre-vocational identification and use of tools, blueprint reading, basic shop skills, safety procedures, math skills, and physical conditioning. English as a Second Language and team-building skills such as effective listening and feedback might be included in curricula preparing students for some entry-level nontraditional jobs.

Apprenticeship is a formal employment relationship designed to promote skill training and learning on the job. “Hands on” learning takes place in conjunction with related theoretical instruction (often in a classroom setting). An apprentice who successfully completes an ATELS registered program, which usually requires 3 to 5 years, is awarded a certificate of completion. An ATELS-registered program is one in which employers, or groups of employers, and unions design, organize, manage, and finance apprenticeship programs under the standards developed and registered with ATELS or ATELS-recognized State Apprenticeship Agencies. Employers, or groups of employers, and unions also select apprentices who are trained to meet certain predetermined occupational standards. For more information, see the ATELS Web site at http://www.doleta.gov/atels_bat/.

High-technology occupations are those in which cutting-edge, state-of-the-art technologies are used. The technologies shape the design, development, and introduction of new products and innovative production processes. These scientific, technical and engineering occupations require in-depth knowledge of the theories and principles of science, engineering, and mathematics, acquired through post-secondary specialized education. For the purposes of this solicitation, this definition also includes other occupations which have many high-tech aspects, for example, repairing the products used in high-tech industries.

CBO (Community-Based Organization) is a private nonprofit organization, which may be faith-based, that is representative of a community or a significant segment of a community, and that has demonstrated experience administering programs that train women for A/NTO.

Part II. Eligible Applicants

An applicant must be a community-based organization. That is, it must:

• Be a private, nonprofit organization. A public body such as a governmental body, public school, college, or hospital is not a CBO.

• Represent a community or a significant segment of a community.

• Have demonstrated experience administering programs that train women for A/NTO.

In addition, a CBO must not be classified under the IRS Tax Code as a 501(c)(4) entity.

All proposals must document that these eligibility requirements have been, and will continue to be, satisfied.

A faith-based organization is an eligible applicant provided it meets the eligibility requirements stated above.

A consortium of CBOs may apply for a grant provided they include a copy of the consortium agreement and identify the entity/entities that will administer the grant.

Applications that fail to establish eligibility according to these criteria will not be evaluated.

Part III. Application Contents

A. Technical Proposal

The technical proposal text is limited to twenty (20) 8½ by 11 inch pages (not including the Table of Contents and any attachments), numbered, double-spaced, single-sided, in 8 to 12 pitch (font size).

The following information is required:

1. A Table of Contents, listing the application sections.

2. Documentation of applicant eligibility, as described in part II of this notice.

3. A 2-page abstract, summarizing the proposed project.

4. Documentation of its experience, capability, and qualifications for providing TA to E/LU for the purpose of recruiting, training, hiring and retaining women in A/NTO, as described in part IV, section A1 “Organizational Overview” of this notice.

5. Documentation of commitments from a minimum of six (6) up to a maximum of eight (8) E/LU to receive TA, and a description of the E/LU's previous experience in recruiting, training, placing and retaining women in A/NTO, as described in part iv, section A2 “Established Employer and Labor Union Linkages” of this notice.

6. A Statement of Work as described in part IV section A3 “Scope of WANTO Project and Projected Outcomes” of this notice.

7. A list of all items for which grant funds will be expended. Do not include any cost information, only expenditure items.

8. The CBO's budget and major funding sources for the past three (3) years, including foundation and government funds, as well as other types of funding.

B. Cost Proposal

The Cost Proposal is a physically separate document and must not be included within the twenty-page limit of the technical proposal. The Cost Proposal must include the following:

1. A Standard Form (SF) 424, “Application for Federal Assistance.” All copies of the SF 424 must have original signatures of the legal entity applying for grant funding. Applicants must indicate on the SF 424 the organizations IRS status. The Catalogue of Federal Domestic Assistance (CFDA) number for this program is 17.700, which should be entered on the SF 424, block 10.

2. A certification prepared within the last six (6) months, attesting to the adequacy of the entity's fiscal management and accounting systems to account for and safeguard Federal funds properly. The certification should be obtained as follows:

a. For incorporated organizations, a certification from a Certified Public Accountant or

b. For other applicants, their employers' identification number (EIN) issued by the IRS;

3. Budget Information Form 424A, with a narrative of description of each line item.

4. A copy of the most current Indirect Cost Rate Agreement issued by the cognizant federal agency, if applicable.

5. Applications from a consortium of organizations also must include a copy of the consortium agreement and must identify the consortium that will act as the administrative entity for the project. No member of a consortium shall make a separate application under his grant program. In addition, the agreement must specify the consortium's arrangements for handling the administrative and financial responsibilities for the program.

6. The applicants must include the Assurances and Certifications Signature Page.

Potential applicants who do not have the current version of the standard grant forms 424 and 424A listed above can download them from the following OMB Web site address: http://www.whitehouse.gov/omb/grants/grants_forms.html. The Assurances and Certifications Signature Page will be available on the WB WANTO Web site at http://www.dol.gov/wb/nontra.htm.

Part IV. Evaluation Criteria and Selection Process

Technical proposals will be carefully reviewed by an evaluation panel using the following criteria under section A of this part. Up to 115 points may be awarded to an application. This total is based on up to 100 points for the required information described in A. 1, 2, and 3 below, and up to 15 bonus points for special program emphasis described in A. 4 below. The ranked scores of the proposals will serve as the primary basis for selection of applicants for a potential award in accordance with the process in section B of this part.

A. Technical Evaluation Criteria/Points

1. Organizational Overview (Up to 20 Points Awarded)

The applicant must demonstrate its experience, capability and qualifications for administering a grant project to provide technical assistance to E/LU. The applicant must:

(a) Describe the organization's experience and leadership in providing technical assistance to E/LU for the purpose of recruiting, training, placing and retaining women in A/NTO.

(b) Highlight the qualifications of the key staff and the organizational structure that would ensure the success of the project. Include the CBO's organizational chart and the names and full resumes of all primary staff managing the grant project.

(c) Include job descriptions which identify all key tasks, the hours required for the completion of such tasks, and the persons responsible for completing each task.

(d) Indicate if tradeswomen or women in nontraditional occupations serve as active members of the organization, as either employed staff or as board members.

(e) Where applicable, differentiate between the CBO and any proposed consultants or subcontractors, providing information on each of the above.

2. Established Employer and Labor Union Linkages (Up to 20 Points Awarded)

The applicant must demonstrate commitments from a minimum of six (6) E/LU up to a maximum of eight (8) E/LU to receive technical assistance during the grant award period. The applicant must also demonstrate a level of understanding of the E/LU's previous experiences with recruitment, training, placement, and retention of women in A/NTO sufficient to enable the applicant to provide targeted technical assistance. The applicant must:

(a) Document commitments (in the form of written agreements or letters) from a minimum of six (6) E/LU up to a maximum of eight (8) E/LU to receive technical assistance for the purpose of training or employing women in A/NTO. As stated in the WANTO Act, at a minimum such agreements or letters should include: (1) A description of the need for technical assistance; (2) a description of the types of apprenticeable occupations or nontraditional occupations in which the employer or labor union would like to train or employ women; (3) assurances that there are or will be suitable and appropriate positions available in the apprenticeable occupations program or in the nontraditional occupations being targeted; and (4) commitments that reasonable efforts shall be made to place qualified women in apprenticeable occupations or nontraditional occupations.

(b) Document the previous programs and experiences, and success or lack thereof, of the E/LU in recruiting, training, placing, and retaining women in A/NTO. Such documentation may include descriptions of previous outreach and orientation provided to women, mentoring programs, support groups, networks, workplace consultations, employee and supervisory workshops, and other workplace-specific strategic planning to increase the participation of women in apprenticeship and nontraditional occupations.

3. Scope of WANTO Project and Projected Outcomes (Up to 60 Points Awarded)

The applicant must demonstrate comprehensive, targeted, and effective technical assistance to be provided to E/LU with WANTO funding. The applicant must also project the types and amounts of successful outcomes that can reasonably be expected as a result of the TA provided with WANTO funding. The WB considers the successful placement of women in apprenticeships and nontraditional occupations the primary successful outcome a grantee can achieve with WANTO funding.

The applicant must include a Statement of Work which:

(a) Details all forms of technical assistance to be provided to the E/LU identified in the previous section, “Established Employer and Labor Union Linkages.” (According to the WANTO Act, technical assistance provided with WANTO grant funds may include: (1) Developing outreach and orientation sessions to recruit women into the employers' apprenticeable occupations and nontraditional occupations; (2) developing preapprenticeable occupations or nontraditional skills training to prepare women for A/NTO; (3) providing ongoing orientations for E/LU and workers on creating a successful environment for women in A/NTO; (4) setting up support groups and facilitating networks for women in A/NTO on or off the job site to improve their retention; (5) setting up a local computerized data base referral system to maintain a current list of tradeswomen who are available for work; (6) serving as a liaison between tradeswomen and E/LU to address workplace issues related to gender; and (7) conducting exit interviews with tradeswomen to evaluate their on-the-job experience and to assess the effectiveness of the program.)

(b) Documents any leveraging or co-funding anticipated for the accomplishment of the proposed project. This must include a description of the value-added of the WANTO grant, i.e., what technical assistance will be provided to E/LU as a result of WANTO grant funding?

(c) Describes the outcomes the applicant projects as a result of WANTO funding. This must include the number of women to be placed in (1) pre-apprenticeships; (2) apprenticeships; and (3) nontraditional occupations.

4. Bonus Points (Up to 15 Points Awarded)

Bonus points will be awarded for projects that demonstrate their experience or indicate their plans to provide one or more of the following:

a. Opportunities for women to be placed and retained in A/NTO in high technology occupations. (Up to 5 points awarded.)

b. Services for disabled women to be placed in A/NTO. (Up to 5 points awarded.)

c. Mentoring services to at least one other CBO that is providing technical assistance to E/LU. (Up to 5 points awarded.)

B. Total Score

The review panel's recommendations are advisory in nature and not binding on the Grant Officer. Final awards will be made based on the best interest of the government, including, but not limited to, such factors as technical quality, geographic balance, occupational and/or industrial impact, and past grant performance. The submission of a successful previous application for a WANTO grant from any prior year does not guarantee an award under this solicitation. A previous grantee's failure to complete a WANTO grant project within the grant award period, or failure to provide required reports in a timely manner are aspects of past grant performance that may result in denial of a 2003 grant.

Although the government reserves the right to award on the basis of the applicant's initial submissions, the government may establish a competitive range or technically acceptable range based upon proposal evaluation for the purpose of selecting qualified applicants. The government reserves the right to ask for clarification or hold discussion, but may elect to award a grant without such discussion. The Grant Officer's determination of award under this SGA is the final agency action.

Part V. Deliverables

This section is provided so that applicants may more accurately estimate the staffing budgetary requirements when preparing their proposal. Applicants are to exclude from their cost proposal the cost of any requested travel to Washington, DC.

A. Post Grant Award Conference.

No later than eight (8) weeks after an award, the grantees shall meet with the WB and ATELS at the Post-Award Conference to discuss the project, related components and TA; timelines; technical assistance outcomes; assessment for comment; and final approval. The grantees and the WB will discuss and make decisions on the following program activities:

1. The proposed TA commitments for employment, registered apprenticeship, and related skilled nontraditional occupation activities and responsibilities; the number of targeted partnerships with E/LU; and the number of women who will be served.

2. The methodology the proposed partnership will use to support/change management and employee attitudes to promote female workers in A/NTO.

3. The types of systemic change anticipated by the TA strategies that will be incorporated into ongoing employer recruitment, hiring, training, and promotion of women in A/NTO.

4. The occupational, industrial, and geographical impact anticipated.

5. The supportive services to be provided to employers and women after successful placement into A/NTO.

The WB and ATELS will provide further input orally or in writing, if necessary, within ten (10) working days after the Post-Award Conference.

B. Grant Plan of Action.

If revisions have been necessary, no later than ten (10) weeks after an award, the grantees and the WB will confirm the “plan of action” and detailed time-line for program implementation.

C. Grant Implementation.

No later than twelve (12) weeks after an award, the grantee(s) shall have begun providing E/LU with TA to recruit, select, train, place, retain, and otherwise prepare women for A/NTO, with progress to be measured in terms of employment growth and rising earnings.

D. Quarterly Reports

1. No more than thirty (30) calendar days after the end of each quarter, the grantee shall submit a progress report of work done under this grant.

2. Quarterly reports shall generally contain brief information on each of the following:

(a) A comparison of actual accomplishments with the goals and objectives established for the period. This must include discussion of placements in pre-apprenticeship programs, apprenticeships and nontraditional jobs, giving the name and address of each workplace/company involved; and TA provided to E/LU, giving the E/LU name and address as well as the nature of the TA provided.

(b) Reasons why established goals were not met, if appropriate.

(c) Any problems that may impede the performance of the grant and the proposed corrective action.

(d) Any changes in the proposed work to be performed during the next reporting period.

3. In addition, between scheduled reporting dates, the grantee(s) shall immediately inform the Women's Bureau National Office Grant Officer's Technical Representative of significant developments affecting the ability to accomplish the work.

E. Final Report

1. The Final Report shall cover findings, final performance data, outcome results, an assessment of the grant project, and any employer or labor organization plans for follow-up of participants. It shall include an Executive Summary of no more than three (3) pages.

2. No later than ninety (90) days after the expiration of the grant award, the grantee(s) shall submit two (2) copies of the camera-ready final report, each bound in a professional manner in a loose-leaf notebook. These materials must be paid for with grant funds.

3. Upon request of either the Women's Bureau or the grantee, the grantee shall submit a draft final report no more than sixty (60) days after the expiration of the grant award. The Women's Bureau will then review the draft report, consult with ATELS as necessary, and provide written comments to the grantee within fifteen (15) days of receipt.

Part VII. Grant Requirements

A. Administrative Standards and Provisions

Except as specifically provided, DOL acceptance of a proposal and an award of Federal funds to sponsor any program(s) does not provide a waiver of any grant requirements and/or procedures. For example, the OMB Grants Management circulars (available on the OMB Web site at http://www.whitehouse.gov/omb/grants/grants_circulars.html) require, and an entity's procurement procedures must require, that all procurement transactions will be conducted, as practical, to provide open and free competition. If a proposal identifies a specific entity to provide the services, the DOL award does not provide the justification or basis to sole-source the procurement, i.e., avoid competition.

The grants awarded under this SGA shall be subject to the following administrative standards and provisions as applicable:

29 CFR part 97—Uniform Administrative Requirements for Grants and Cooperative Agreements to State and Local Governments.

29 CFR part 96—Federal Standards for Audit of Federally Funded Grants, Contracts, and Agreements.

29 CFR part 95—Uniform Administrative Requirements for Grants and Cooperative Agreements with Institutions of Higher Education, etc.

B. Allowable Costs

The WB shall determine what constitutes allowable costs in accordance with the following applicable Federal cost principles: (1) State and Local Government—OMB Circular A-87; (2) Educational Institutions—OMB Circular A-21; (3) Nonprofit Organizations—OMB Circular A-122; and (4) Profit-making Commercial Firms—48 CFR Part 31.

C. Grant Nondiscrimination Assurances

As a condition of the awards, applicants must certify that they will comply fully with the nondiscrimination and equal opportunity provisions of the following laws:

29 CFR part 31—Nondiscrimination in Federally-assisted programs of the Department of Labor, effectuation of title VI of the Civil Rights Act of 1964.

29 CFR part 32—Nondiscrimination on the Basis of Disability in Programs and Activities Receiving or Benefiting from Federal Assistance. (Implementing section 504 of the Rehabilitation Act, 29 U.S.C. 794)

29 CFR part 36—Nondiscrimination on the Basis of Sex in Education Programs or Activities Receiving Federal Financial Assistance. (Implementing title IX of the Education Amendments of 1972, 20 U.S.C. 1681 et seq.)

The applicant must include assurances and certifications that it will comply with these laws in its grant application. The assurances and certifications are attached as Appendix C.

In addition, this program is subject to the provisions of the “Jobs for Veterans Act,” Public Law 107-288, which provides priority of service to veterans and spouses of certain veterans for the receipt of employment, training, and placement services in any job training program directly funded, in whole or in part, by the Department of Labor. Please note that, to obtain priority of service, a veteran must meet those programs' eligibility requirements. Comprehensive policy guidance is being developed and will be issued in the near future.

Part VIII. Paperwork Reduction Act Notice (Public Law 104-13)

This collection of information is approved under the Office of Management and Budget (OMB) control number 1225-0080, which expires 12/31/05. Persons are not required to respond to a collection of information unless it displays a currently valid OMB control number. The public reporting burden for this collection of information is estimated to average six (6) to twelve (12) hours to complete the grant application; two (2) to five (5) hours for quarterly reports; and four (4) to ten (10) hours for the final report. These estimates include the time for reviewing instructions, researching existing data sources, gathering and maintaining the data needed, and completing and reviewing the collection of information. Send comments regarding this burden estimate or any other aspect of this collection of information, including suggestions for reducing this burden to the Women's Bureau, U.S. Department of Labor, Room S3311, 200 Constitution Ave., NW., Washington, DC 20210, to the attention of Diane Faulkner. Please reference OMB control number 1225-0080.

Signed in Washington, DC, this 12th day of June, 2003.
Lawrence J. Kuss,
Grant Officer.

Appendix

A. Standard Form 424: Application for Federal Assistance

B. Standard Form 424A: Budget Information—Non-Construction Programs

C. Assurances and Certifications Signature Page

D. Survey on Ensuring Equal Opportunity for Applicants, OMB No. 1225-0083

BILLING CODE 4510-23-P

[FR Doc. 03-15344 Filed 6-17-03; 8:45 am]

BILLING CODE 4510-23-C